DEPARTMENT OF HOMELAND SECURITY

U.S. Customs and Border Protection

DEPARTMENT OF THE TREASURY

19 CFR Part 12

[CBP Dec. 13-15 ]

RIN 1515-AD98

Extension of Import Restrictions Imposed on Archaeological Material From Cambodia From the Bronze Age Through the Khmer Era

AGENCIES: U.S. Customs and Border Protection; Department of Homeland Security; Department of the Treasury.

ACTION: Final rule.

SUMMARY: This final rule amends the U.S. Customs and Border Protection (CBP) regulations to reflect an extension of import restrictions on certain archaeological material from Cambodia from the Bronze Age through the Khmer era. The restrictions, which were originally imposed by CBP Dec. 03-28, and last extended and amended by CBP Dec. 08-40, are due to expire on September 19, 2013, unless extended.

The Assistant Secretary for Educational and Cultural Affairs, United States Department of State, has determined that factors for entering into the agreement continue to warrant the imposition of import restrictions. Accordingly, the restrictions will remain in effect for an additional five years, and the CBP regulations are being amended to indicate this further extension through September 19, 2018. These restrictions are being extended pursuant to determinations of the United States Department of State made under the terms of the Convention on Cultural Property Implementation Act in accordance with the United Nations Educational, Scientific and Cultural Organization (UNESCO) Convention on the Means of Prohibiting and Preventing the Illicit Import, Export and Transfer of Ownership of Cultural Property. CBP Dec. 08-40 contains the Designated List of archaeological material from Cambodia to which the restrictions apply.

DATES: Effective Date: September 19, 2013.

FOR FURTHER INFORMATION CONTACT: For legal aspects, Lisa Burley, Cargo Security, Carriers and Restricted Merchandise Branch, Regulations and Rulings, Office of International Trade, (202) 325-0215. For operational aspects, William R. Scopa, Chief, Partner Government Agencies Branch, Trade Policy and Programs, Office of International Trade, (202) 863-6554.

SUPPLEMENTARY INFORMATION:

Background

Pursuant to the provisions of the 1970 United Nations Educational, Scientific and Cultural Organization (UNESCO) Convention, codified into U.S. law as the Convention on Cultural Property Implementation Act (Pub. L. 97-446, 19 U.S.C. 2601 et seq.), the United States entered into a bilateral agreement with Cambodia on September 19, 2003, concerning the imposition of import restrictions on Khmer archaeological material from the 6th century through the 16th century A.D. in Cambodia. On September 22, 2003, CBP published CBP Dec. 03-28 in the Federal Register (68 FR 55000), which amended 19 CFR 12.104g(a) to reflect the imposition of these restrictions, which subsumed the emergency import restrictions on Khmer stone archaeological material (T.D. 99-88), and included a list designating the additional types of archaeological material covered by the restrictions including Khmer metals and ceramics.

On September 19, 2008, CBP published CBP Dec. 08-40 in the Federal Register (73 FR 54309), which amended 19 CFR 12.104g(a) to reflect the extension of these import restrictions for an additional period of five years until September 19, 2013, and amended them to include archaeological material from the Bronze Age through the Khmer Era.

Import restrictions listed in 19 CFR 12.104g(a) are effective for no more than five years beginning on the date on which the agreement enters into force with respect to the United States. This period can be extended for additional periods not to exceed five years if it is determined that the factors which justified the initial agreement still pertain (19 CFR 12.104g(a)).

On January 7, 2013, the United States Department of State proposed in the Federal Register (78 FR 977) to extend the Memorandum of Understanding between the U.S and Cambodia concerning the imposition of import restrictions on archaeological material from Cambodia from the Bronze Age through the Khmer Era. On June 10, 2013, after reviewing the findings and recommendations of the Cultural Property Advisory Committee, the Assistant Secretary for Educational and Cultural Affairs, United States Department of State, concluding that the cultural heritage of Cambodia continues to be in jeopardy from pillage of certain archaeological materials, made the necessary determination to extend the import restrictions for an additional five years. On August 6, 2013, diplomatic notes were exchanged reflecting the extension of those restrictions for an additional five-year period. Accordingly, CBP is amending 19 CFR 12.104g(a) to reflect the extension of the import restrictions. The Designated List of Archaeological Material from Cambodia covered by these import restrictions is set forth in CBP Dec. 08-40 (see 73 FR 54309, dated September 19, 2008). The Designated List and additional information about the agreement may also be found at the following Internet Web site address: http://eca.state.gov/cultural-heritage-center/international-cultural-property-protection/bilateral-agreements/cambodia.

The restrictions on the importation of these archaeological materials from Cambodia are to continue in effect through September 19, 2018. Importation of such materials continues to be restricted unless the conditions set forth in 19 U.S.C. 2606 and 19 CFR 12.104c are met.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

Because this rule involves a foreign affairs function of the United States, it is not subject to Executive Order 12866.

Signing Authority

This regulation is being issued in accordance with 19 CFR 0.1(a)(1).

List of Subjects in 19 CFR Part 12

Cultural property, Customs duties and inspection, Imports, Prohibited merchandise.

Amendment to CBP Regulations

For the reasons set forth above, part 12 of Title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

§ 12.104 [Amended]

2. In § 12.104g, paragraph (a), the table is amended in the entry for Cambodia by removing the words “CBP Dec. 03-28 extended by CBP Dec. 08-40” in the column headed “Decision No.” and, adding in its place, the phrase “CBP Dec. 08-40 extended by CBP Dec. 13-15”.

Thomas S. Winkowski,
Acting Commissioner.
Approved: September 3, 2013.
Timothy E. Skud,
Deputy Assistant Secretary of the Treasury.

[FR Doc. 2013-21803 Filed 9-13-13; 8:45 am]

BILLING CODE 9111-14-P